DEPARTMENT OF TRANSPORTATION

Pipeline and Hazardous Materials Safety Administration

[Docket No. PHMSA-2025-0013]

Pipeline Safety: Request for Special Permit

AGENCY: Pipeline and Hazardous Materials Safety Administration (PHMSA); U.S. Department of Transportation (DOT).

ACTION: Notice.

SUMMARY: PHMSA is publishing this notice to solicit public comments on a request for special permit received from Algonquin Gas Transmission, LLC (AGT). The special permit request is seeking relief from compliance with certain requirements in the Federal pipeline safety regulations. At the conclusion of the 30-day comment period, PHMSA will review the comments received from this notice as part of its evaluation to grant or deny the special permit request.

DATES: Submit any comments regarding this special permit request by February 25, 2026.

ADDRESSES: Comments should reference the docket number for this special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information: Confidential Business Information (CBI) is commercial or financial information that is both customarily and actually treated as private by its owner. Under the Freedom of Information Act (FOIA) (5 United States Code 552), CBI is exempt from public disclosure. If your comments responsive to this notice contain commercial or financial information that is customarily treated as private, that you actually treat as private, and that is relevant or responsive to this notice, it is important that you clearly designate the submitted comments as CBI. Pursuant to 49 Code of Federal Regulations (CFR) § 190.343, you may ask PHMSA to give confidential treatment to information you give to the agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Ms. Jamie Huff, DOT, PHMSA-PHP-80, 1200 New Jersey Avenue SE, Washington, DC 20590-0001. Any commentary PHMSA receives that is not specifically designated as CBI will be placed in the public docket for this matter.

FOR FURTHER INFORMATION CONTACT:

General: Ms. Jamie Huff by telephone at 812-677-8809, or by email at jamie.huff@dot.gov.

Technical: Mr. Vincent Holohan by telephone at 202-360-6615, or by email at vincent.holohan@dot.gov.

References: A copy of the Second Edition of American Petroleum Institute (API) 15S will be made available for review at PHMSA's headquarters in Washington, DC, for individuals seeking to comment on this notice. To coordinate scheduling review, contact Timothy O'Shea, Attorney-Advisor, PHMSA, at timothy.o'shea@dot.gov.

SUPPLEMENTARY INFORMATION: On December 13, 2024, PHMSA received a special permit application from AGT, owned by affiliates of Enbridge Inc. In its application, AGT seeks a waiver of the Federal pipeline safety regulations at 49 CFR 192.53(c), 192.121, 192.144, 192.149, 192.150, 192.619(a), 192.624, 192.710, and 192.714, to authorize the use of Smartpipe pipe and fittings in a regulated interstate gas transmission pipeline located in Class 1, Class 2, and Class 3 locations.

Specifically, AGT proposes to insert 8.79-inch diameter Smartpipe composite pipe and components into approximately 0.95 miles of an existing 10.75-inch diameter steel gas transmission pipeline located in Hartford County, Connecticut. Because AGT's existing regulated steel gas transmission pipeline is un-piggable and subject to maximum allowable operating pressure (MAOP) reconfirmation, AGT wants to use the steel carrier pipe as added protection from excavation damage, and to insert the new Smartpipe composite pipe. The 8.79-inch diameter Smartpipe will allow AGT to maintain the current MAOP of 750 pounds per square inch gauge. Smartpipe is a type of flexible reinforced thermoplastic pipe that is not authorized by the regulations for use in gas transmission pipelines but which both PHMSA and the operator have experience safely managing through previous special permits and state waivers.

PHMSA developed the draft conditions to ensure that the special permit is not inconsistent with pipeline safety. The special permit application, draft proposed special permit with conditions, and draft environmental assessment are available for review and public comment in Docket Number PHMSA-2025-0013. PHMSA invites interested persons to review and submit comments on these documents in the docket. Please submit comments on any potential safety, environmental, and other relevant considerations implicated by the special permit request. Comments may include relevant data.

Before issuing a decision on the special permit request, PHMSA will evaluate all comments received on or before the comments closing date. PHMSA will consider each relevant comment it receives in making its decision to grant or deny this special permit request.

Issued in Washington, DC, on January 21, 2026, under authority delegated in 49 CFR 1.97.

Linda Daugherty,
Acting Associate Administrator for Pipeline Safety.

[FR Doc. 2026-01369 Filed 1-23-26; 8:45 am]

BILLING CODE 4910-60-P